DEPARTMENT OF COMMERCE

National Oceanic and Atmospheric Administration

Agency Information Collection Activities; Submission to the Office of Management and Budget (OMB) for Review and Approval; Comment Request; National Oceanic and Atmospheric Administration, Office of Education, Higher Education Scholarship, Fellowship and Internship Programs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 28, 2022 (87 FR 17271) during a 60-day comment period. This notice allows for an additional 30 days for public comments.

Agency: National Oceanic and Atmospheric Administration, Commerce.

Title: National Oceanic and Atmospheric Administration, Office of Education, Higher Education Scholarship, Fellowship and Internship Programs.

OMB Control Number: 0648-0568.

Form Number(s): None.

Type of Request: Regular submission. Revision and extension of a current information collection.

Number of Respondents: 4,016.

Average Hours per Response: Hollings and EPP/MSI Application—12 hours; Hollings and EPP/MSI Reference—1 hour; Alumni Update Form—0.1 hours; Student Tracker Form—28 hours; EPP/MSI Graduate Fellowship Application—12 hours; EPP/MSI Graduate Fellowship References—1 hour; Student Training Record Form—0.5 hours; Hollings and EPP/MSI Student Surveys—0.25 hours; Hollings and EPP/MSI Applicant Survey—0.1 hours; Hollings and EPP/MSI Mentor Surveys—0.5 hours; Hollings Preparation Program Application—1 hour; Hollings Preparation Program Surveys—0.33 hours; Student Opportunities Optional Demographic Data Collection—0.25 hours.

Total Annual Burden Hours: 11,916.

Needs and Uses: This request is for extension and revision of a current information collection.

The National Oceanic and Atmospheric Administration (NOAA) Office of Education is sponsoring the information collection herein described. The Administrator of NOAA is authorized by section 4002 of the America COMPETES Act, Public Law 110-69, to establish and administer a Graduate Sciences Program and two undergraduate scholarship programs to enhance understanding of ocean, coastal, Great Lakes, and atmospheric science and stewardship by the general public and other coastal stakeholders, including underrepresented groups in ocean and atmospheric science and policy careers. In addition, NOAA's Administrator is authorized by section 214 of the Consolidated Appropriations Act, 2005, Public Law 108-447, to establish and administer the Ernest F. Hollings Undergraduate Scholarship Program to support undergraduate studies in oceanic and atmospheric science, research, technology, and education that support NOAA's mission and programs.

The NOAA Office of Education collects, evaluates, and assesses student data and information for the purpose of selecting successful candidates for scholarships, fellowships and internships, generating internal NOAA reports, and articles to demonstrate the success of its program.

The purpose of the NOAA Educational Partnership Program with Minority Serving Institutions (EPP/MSI) is to educate, train and graduate students in NOAA mission-aligned disciplines to build a pool of candidates eligible for the future NOAA workforce. The EPP/MSI program is strongly committed to broadening the participation of Minority Serving Institutions such as Historically Black Colleges and Universities, Hispanic Serving Institutions, Indian Tribally Controlled Colleges and Universities, Alaska Native-Serving Institutions, and Native Hawaiian-Serving Institutions. The EPP/MSI program has five program components: the Undergraduate Scholarship Program (USP); the Cooperative Science Centers (CSCs); Graduate Fellowship Program (GFP); the Graduate Sciences Program (GSP); and the Environmental Entrepreneurship Program (EEP). The GSP and EEP programs are no longer actively supporting students, however alumni of those programs may provide updates to EPP/MSI of educational and career changes.

The Ernest F. Hollings Undergraduate Scholarship Program was established to increase undergraduate training in oceanic and atmospheric science, research, technology, and education and foster multidisciplinary training opportunities. In an effort to increase the diversity of candidates applying to the Hollings Scholarship, the Hollings Preparation Program (HPP) was established in 2019.

The NOAA Office of Education requires all applicants to NOAA's Undergraduate Scholarship Programs to complete an application in order to be considered. The application package requires two faculty and/or academic advisors to complete a student scholar reference form in support of the scholarship application. Undergraduate scholarship recipients are required to complete a Student Scholarship Training Record to track their time, attendance, and accomplishments during their internships. Student scholar alumni are also requested to provide information to NOAA for internal tracking purposes. This information informs NOAA whether NOAA-funded students pursue and complete post-graduate NOAA-related science degrees, are employed by NOAA or a NOAA contractor, or in fields related to NOAA's mission.

NOAA EPP/MSI CSC grant award recipients are required to update the student tracker database with the required student information in order to assess compliance with award performance measures. While supported by NOAA scholarship and internship programs, the Office of Education surveys students and mentors to gain feedback on experiences and to assess program impact. Feedback collected from surveys will be used to improve programs to ensure the highest quality experience for supported students.

In compliance with Service Equity Assessment (E.O. 13985, Section 5) NOAA identified a lack of demographic information on people that work for (FTE, contractor, or grantee), or are interns, students or grantees of NOAA as a barrier to measuring the success of stated Diversity, Equity, Inclusion, and Justice (DEIJ) goals, and gaining approval to collect such data will be important moving forward. NOAA has a continuing commitment to monitor the operation of its review and award processes to identify and address any inequities based on gender, race, ethnicity, or disability of its proposed applicants. To gather information needed for this important task, the applicant(s) should submit the requested information for each identified applicant(s) with each proposal using the proposed optional demographic survey. Submission of the requested information is voluntary and is not a precondition of award unless otherwise noted by the opportunity. Any individual not wishing to submit some or all the information should check the box provided for this purpose. Upon receipt of the application, this form will be separated from the application. This form will not be duplicated, and it will not be a part of the review process (unless specified by the opportunity). Data will be confidential.

The collected data supports the Office of Education's program performance measures. To measure the impact of these programs, the data collected are compared to the available data in the national education databases (e.g., National Science Foundation and National Center for Education Statistics) and NOAA workforce management database. Furthermore, the student data collection identifies degree and NOAA mission-aligned discipline pipeline areas, guiding NOAA's effort to recruit for its mission-aligned educational and training programs and future workforce.

This information collection includes several changes to the type and amount of information being collected as described below:

1. Updates to Student Scholarship Application and Reference Forms

2. Addition of Student and Mentor Surveys

3. Addition of the Hollings Preparation Program Application and Surveys

4. Graduate Fellowship Program Application and References

5. Addition of Student Opportunities Optional Demographic Data Collection

6. Removal of the Dr. Nancy Foster and the National Marine Fisheries Service (NMFS) Recruiting, Training, and Research (RTR) Program

7. Revision of the title collection.

Affected Public: Individuals or households; business or other for-profit; not-for-profit institutions; Federal, State, Local or Tribal Government.

Frequency: On occasion, depending on the collection instrument.

Respondent's Obligation: Voluntary or Required to Obtain or Retain Benefits depending on the collection instrument.

Legal Authority: The America COMPETES Act, Public Law 110-69, Section 4002; The Consolidated Appropriations Act, 2005, Public Law 108-447, Section 214; Executive Orders 13985 and 14035.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0568.

Sheleen Dumas,
Department PRA Clearance Officer, Office of the Chief Information Officer, Commerce Department.

[FR Doc. 2022-15677 Filed 7-21-22; 8:45 am]

BILLING CODE 3510-12-P